ENVIRONMENTAL PROTECTION AGENCY

40 CFR Ch. I

[FRL 11974-01-OA; EPA-HQ-OAR-2011-0135; EPA-HQ-OAR-2024-0089]

Spring 2024 Unified Agenda of Regulatory and Deregulatory Actions

AGENCY: Environmental Protection Agency.

ACTION: Semiannual Regulatory Agenda.

SUMMARY: The Environmental Protection Agency (EPA) publishes the Semiannual Agenda of Regulatory and Deregulatory Actions online at https://www.reginfo.gov to periodically update the public. This document contains information about:

• Regulations in the Semiannual Agenda that are under development, completed, or canceled since the last agenda; and

• Reviews of regulations with small business impacts under section 610 of the Regulatory Flexibility Act (RFA).

FOR FURTHER INFORMATION CONTACT: If you have questions or comments about a particular action, please get in touch with the agency contact listed in each agenda entry. If you have general questions about the Semiannual Agenda, please contact: Caryn Muellerleile (muellerleile.caryn@epa.gov; 202-564-2855).

Table of Contents

I. Introduction

A. The EPA's Regulatory Information

B. What key statutes and Executive Orders guide the EPA's rule and policymaking process?

C. How can you be involved in the EPA's rule and policymaking process?

II. Semiannual Agenda of Regulatory and Deregulatory Actions

A. What actions are included in the e-Agenda and the Regulatory Flexibility Agenda?

B. How is the e-Agenda organized?

C. What information is in the Regulatory Flexibility Agenda and the e-Agenda?

D. What tools are available for mining Regulatory Agenda Data and for finding more about EPA rules and policies?

III. Review of Regulations Under Section 610 of the Regulatory Flexibility Act

A. Reviews of Rules With Significant Impacts on a Substantial Number of Small Entities

B. What other special attention does EPA give to the impacts of rules on small businesses, small governments, and small nonprofit organizations?

IV. Thank You for Collaborating With Us

SUPPLEMENTARY INFORMATION:

I. Introduction

The EPA is committed to a regulatory strategy that effectively achieves the Agency's mission of protecting human health and the environment. The EPA publishes the Semiannual Agenda of Regulatory and Deregulatory Actions to update the public about regulatory activity undertaken in support of this mission. In the Semiannual Agenda, the EPA provides notice of our plans to review, propose, and issue regulations. The EPA is committed to environmental protection that benefits all communities and encourages public participation and meaningful engagement in our regulatory activities and processes.

Additionally, the EPA's Semiannual Agenda includes information about rules that may have a significant economic impact on a substantial number of small entities, and review of those regulations under the Regulatory Flexibility Act as amended.

In this document, the EPA explains in greater detail the types of actions and information available in the Semiannual Agenda and actions that are currently undergoing review specifically for impacts on small entities.

A. The EPA's Regulatory Information

“E-Agenda,” “online regulatory agenda,” and “semiannual regulatory agenda” all refer to the same comprehensive collection of information that, until 2007, was published in the Federal Register (FR). Currently, this information is only available through an online database at https://www.reginfo.gov/.

“Regulatory Flexibility Agenda” refers to a document that contains information about the subset of regulations that may have a significant impact on a substantial number of small entities. We continue to publish this document in the Federal Register pursuant to the Regulatory Flexibility Act of 1980. This document is available at https://www.govinfo.gov/app/collection/fr.

“Unified Regulatory Agenda” refers to the collection of all agencies' agendas with an introduction prepared by the Regulatory Information Service Center facilitated by the U.S. General Services Administration.

“Regulatory Agenda Preamble” refers to the document you are reading now. It appears as part of the Regulatory Flexibility Agenda and introduces both the EPA's Regulatory Flexibility Agenda and the e-Agenda.

“Section 610 Review” as required by the Regulatory Flexibility Act means a periodic review within ten years of promulgating a final rule that has or may have a significant economic impact on a substantial number of small entities. The EPA maintains a list of these actions at https://www.epa.gov/reg-flex/regulatory-flexibility-act-section-610-reviews. EPA is initiating one section 610 review and is completing another with this semiannual agenda in spring 2024, as described in section III.A. below.

B. What key statutes and Executive Orders guide the EPA's rule and policymaking process?

Several environmental laws authorize the EPA's actions, including but not limited to:

• American Innovation and Manufacturing Act (AIM),

• Clean Air Act (CAA),

• Clean Water Act (CWA),

• Comprehensive Environmental Response, Compensation, and Liability Act (CERCLA, or Superfund),

• Emergency Planning and Community Right-to-Know Act (EPCRA),

• Federal Insecticide, Fungicide, and Rodenticide Act (FIFRA),

• Resource Conservation and Recovery Act (RCRA),

• Safe Drinking Water Act (SDWA), and

• Toxic Substances Control Act (TSCA).

The EPA must comply not only with environmental and other statutes, but also with applicable administrative legal requirements that apply to the issuance of regulations, such as the Administrative Procedure Act (APA), the RFA as amended by the Small Business Regulatory Enforcement Fairness Act (SBREFA), the Unfunded Mandates Reform Act (UMRA), the Paperwork Reduction Act (PRA), the National Technology Transfer and Advancement Act (NTTAA), and the Congressional Review Act (CRA).

The EPA also meets a number of requirements contained in numerous Executive Orders: 12866, “Regulatory Planning and Review” (58 FR 51735, Oct. 4, 1993), as supplemented by Executive Order 13563, “Improving Regulation and Regulatory Review” (76 FR 3821, Jan. 21, 2011) and amended by Executive Order 14094, “Modernizing Regulatory Review” (88 FR 21879, April 11, 2023); 12898, “Environmental Justice” (59 FR 7629, Feb. 16, 1994) and 14096, “Revitalizing Our Nation's Commitment to Environmental Justice for All” (88 FR 25251, April 26, 2023); 13045, “Children's Health Protection” (62 FR 19885, Apr. 23, 1997); 13132, “Federalism” (64 FR 43255, Aug. 10, 1999); 13175, “Consultation and Coordination with Indian Tribal Governments” (65 FR 67249, Nov. 9, 2000); and 13211, “Actions Concerning Regulations That Significantly Affect Energy Supply, Distribution, or Use” (66 FR 28355, May 22, 2001).

C. How can you be involved in the EPA's rule and policymaking process?

You can make your voice heard by getting in touch with the contact person provided in each agenda entry. The EPA encourages you to participate as early in the process as possible. You may also participate by commenting on proposed rules published in the Federal Register.

Instructions on how to submit your comments through https://www.regulations.gov are provided in each Notice of Proposed Rulemaking (NPRM). To be most effective, comments should contain information and data that support your position, and you also should explain why the EPA should incorporate your suggestion in the rule or other type of action. You can be particularly helpful and persuasive if you provide examples to illustrate your concerns and offer specific alternative(s) to what has been proposed by the EPA.

The EPA believes its actions will be more cost effective and protective if the development process includes stakeholders working with us to help identify the most practical and effective solutions to environmental problems. The EPA encourages you to become involved in its rule- and policymaking processes. For more information about the EPA's efforts to increase transparency, participation, and collaboration in EPA activities, please visit https://www.epa.gov/laws-regulations/get-involved-epa-regulations.

II. Semiannual Agenda of Regulatory and Deregulatory Actions

A. What actions are included in the e-Agenda and the Regulatory Flexibility Agenda?

The EPA includes key regulatory actions in the e-Agenda. However, there is no legal significance to the omission of an item from the agenda, and the EPA generally does not include the following categories of actions:

• Administrative actions such as delegations of authority, changes of address, or phone numbers.

• Under the CAA: Revisions to state implementation plans; equivalent methods for ambient air quality monitoring; deletions from the new source performance standards source categories list; delegations of authority to states; area designations for air quality planning purposes.

• Under FIFRA: Registration-related decisions, actions affecting the status of currently registered pesticides, and data call-ins.

• Under the Federal Food, Drug, and Cosmetic Act: Actions regarding pesticide tolerances and food additive regulations.

• Under TSCA: Licensing actions and new chemical actions.

• Under RCRA: Authorization of State solid waste management plans and hazardous waste delisting petitions.

• Under the CWA: State Water Quality Standards, deletions from the section 307(a) list of toxic pollutants, suspensions of toxic testing requirements under the National Pollutant Discharge Elimination System (NPDES), and delegations of NPDES authority to States.

• Under SDWA: Actions on State underground injection control programs.

Meanwhile, the Regulatory Flexibility Agenda includes:

• Actions likely to have a significant economic impact on a substantial number of small entities.

• Rules the Agency has identified for review under section 610 of the RFA.

The EPA is initiating one review and completing another under section 610 of the RFA in this Agenda. See section III.A. for further detail.

B. How is the e-Agenda organized?

You can choose how to sort the agenda entries online by specifying the characteristics of the entries of interest in the desired individual data fields of the e-Agenda at https://www.reginfo.gov. You can sort based on the following characteristics: EPA subagency (such as Office of Water), stage of rulemaking as described in the following paragraphs, alphabetically by title, or the Regulation Identifier Number (RIN), which is assigned sequentially when an action is added to the agenda.

Each entry in the agenda is associated with one of five rulemaking stages. The rulemaking stages are:

1. Pre-rule Stage—The EPA's pre-rule actions are generally intended to determine whether the agency should initiate rulemaking. Pre-rulemakings may include anything that influences or leads to rulemaking; this would include Advance Notices of Proposed Rulemaking (ANPRMs) or analyses of the possible need for regulatory action.

2. Proposed Rule Stage—Proposed rulemaking actions include the EPA's Notice of Proposed Rulemakings (NPRMs); these proposals are scheduled to publish in the Federal Register within the next year.

3. Final Rule Stage—Final rulemaking actions are those actions that the EPA is scheduled to finalize and publish in the Federal Register within the next year.

4. Long-Term Actions—This section includes rulemakings for which the next scheduled regulatory action (such as publication of a NPRM or final rule) is twelve or more months into the future. We encourage you to explore becoming involved even if an action is listed in the Long-Term category.

5. Completed Actions—The EPA's completed actions are those that have been promulgated and published in the Federal Register since publication of the fall 2023 Agenda. This category also includes actions that EPA is no longer considering and has elected to “withdraw” and the results of any RFA section 610 reviews.

C. What information is in the Regulatory Flexibility Agenda and the e-Agenda?

The Regulatory Flexibility Agenda entries include only the nine categories of information that are required by the Regulatory Flexibility Act of 1980 and by Federal Register Agenda printing requirements: Sequence Number, RIN, Title, Description, Statutory Authority, Section 610 Review, if applicable, Regulatory Flexibility Analysis Required, Schedule and Contact Person. Note that the electronic version of the Agenda (E-Agenda) replicates each of these actions with more extensive information, described below.

E-Agenda entries include:

Title: A brief description of the subject of the regulation. The notation ”Section 610 Review” follows the title if we are reviewing the rule as part of our periodic review of existing rules under section 610 of the RFA (5 U.S.C. 610).

Priority: Each entry is placed into one of the following five categories:

a. Significant under 3(f)(1): Under Executive Order 12866, as amended, a rulemaking that may have an annual effect on the economy of $200 million or more, or adversely affect in a material way the economy, a sector of the economy, productivity, competition, jobs, the environment, public health or safety, or State, local, territorial, or tribal governments or communities.

b. Other Significant: A rulemaking that is not economically significant but is considered significant for other reasons. This category includes rules that may:

1. Create a serious inconsistency or otherwise interfere with an action taken or planned by another agency.

2. Materially alter the budgetary impact of entitlements, grants, user fees, or loan programs, or the rights and obligations of recipients; or

3. Raise legal or policy issues for which centralized review would meaningfully further the President's priorities, or the principles in Executive Order 12866.

c. Substantive, Nonsignificant: A rulemaking that has substantive impacts but is not Significant, Routine and Frequent, or Informational/Administrative/Other.

d. Routine and Frequent: A rulemaking that is a specific case of a recurring application of a regulatory program in the Code of Federal Regulations. If an action that would normally be classified Routine and Frequent is reviewed by the Office of Management and Budget (OMB) under Executive Order 12866, then we would classify the action as either ” Significant under 3(f)(1)” or “Other Significant.”

e. Informational/Administrative/Other: An action that is primarily informational or pertains to an action outside the scope of Executive Order 12866.

Major: A rule is “major” under 5 U.S.C. 801 (Pub. L. 104-121) if it has resulted or is likely to result in an annual effect on the economy of $100 million or more or meets other criteria specified in the Congressional Review Act.

Unfunded Mandates: Whether the rule is covered by section 202 of the Unfunded Mandates Reform Act of 1995 (Pub. L. 104-4). The Act requires that, before issuing a NPRM likely to result in a mandate that may result in expenditures by State, local, and tribal governments, in the aggregate, or by the private sector of more than $100 million in 1 year, the agency prepare a written statement on federal mandates addressing costs, benefits, and intergovernmental consultation.

Legal Authority: The sections of the United States Code (U.S.C.), Public Law (Pub. L.), Executive Order (E.O.), or common name of the law that authorizes the regulatory action.

CFR Citation: The section(s) of the Code of Federal Regulations that would be affected by the action.

Legal Deadline: An indication of whether the rule is subject to a statutory and/or a judicial deadline, the date of that deadline, and whether the deadline pertains to a NPRM, a Final Action, or some other action.

Abstract: A brief description of the problem the action will address.

Timetable: The dates and citations (if available) for all past steps and a projected date for at least the next step for the regulatory action. A date displayed in the form 03/00/2025 means the agency is predicting the month and year the action will take place but not the day it will occur. For some entries, the timetable indicates that the date of the next action is “to be determined.”

Regulatory Flexibility Analysis Required: Indicates whether the EPA has prepared or anticipates preparing a regulatory flexibility analysis under section 603 or 604 of the RFA. Generally, such an analysis is required for proposed or final rules subject to the RFA that the EPA believes may have a significant economic impact on a substantial number of small entities.

Small Entities Affected: Indicates whether the rule is anticipated to have any effect on small businesses, small governments, or small nonprofit organizations.

Government Levels Affected: Indicates whether the rule may have any effect on levels of government and, if so, whether the affected governments are federal, tribal, state, or local.

Federalism Implications: Indicates whether the action is expected to have substantial direct effects on the States, on the relationship between the National Government and the States, or on the distribution of power and responsibilities among the various levels of government.

Energy Impacts: Indicates whether the action is a significant energy action under Executive Order 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and email address of a person who is knowledgeable about the regulation.

Additional Information: Other information about the action including docket information.

URLs: For some actions, the internet addresses are included for reading copies of rulemaking documents, submitting comments on proposals, and getting more information about the rulemaking and the program of which it is a part.

RIN: The Regulation Identifier Number is used by the OMB and the public to identify and track rulemakings. The first four digits of the RIN correspond to the EPA office with lead responsibility for developing the action.

D. What tools are available for mining Regulatory Agenda Data and for finding more about EPA rules and policies?

1. Federal Regulatory Dashboard

The https://www.reginfo.gov searchable database maintained by the Regulatory Information Service Center and the OMB's Office of Information and Regulatory Affairs (OIRA), allows users to view the Regulatory Agenda database (https://www.reginfo.gov/public/do/eAgendaMain), with options for searching, displaying, and transmitting data.

2. Subject Matter EPA Websites

Some actions listed in the Agenda include a URL for an EPA-maintained website that provides additional information about the action.

3. Public Dockets

When the EPA publishes either an ANPRM or a NPRM in the Federal Register, the Agency typically establishes a docket to accumulate materials developed throughout the development process for that rulemaking. The docket serves as the repository for the collection of documents or information related to that Agency's action or activity, and is accessible both electronically or at the EPA's Docket Center Reading Room (https://www.epa.gov/dockets). The EPA uses dockets primarily for rulemaking actions, but dockets may also be used for section 610 reviews and for various non-rulemaking activities, such as Federal Register documents seeking public comments on draft guidance, policy statements, information collection requests under the PRA, and other non-rule activities. Docket information should be in that action's agenda entry. All the EPA's public dockets can be located at https://www.regulations.gov. The EPA particularly welcomes feedback on rulemakings from communities likely to be affected by these actions.

III. Review of Regulations Under Section 610 of the Regulatory Flexibility Act

A. Reviews of Rules With Significant Impacts on a Substantial Number of Small Entities

Section 610 of the RFA requires that an agency review each rule that has or will have a significant economic impact on a substantial number of small entities within 10 years of promulgation. EPA is initiating one section 610 review and completing another.

Review title | RIN | Docket ID No. | Status
Section 610 Review of Standards of Performance for New Residential Wood Heaters, New Residential Hydronic Heaters and Forced-Air Furnaces | 2060-AW17 | EPA-HQ-OAR-2024-0089 | Initiated.
Section 610 Review of the Tier 3 Motor Vehicle Emission and Fuel Standards | 2060-AV90 | EPA-HQ-OAR-2011-0135 | Completed.

B. What other special attention does the EPA give to the impacts of rules on small businesses, small governments, and small nonprofit organizations?

For each of the EPA's rulemakings, consideration is given to whether there will be any adverse impact on any small entity. The EPA attempts to fit the regulatory requirements, to the extent feasible, to the scale of the businesses, organizations, and governmental jurisdictions subject to the regulation.

Under the RFA as amended by SBREFA, the Agency must prepare a formal analysis of the potential negative impacts on small entities, convene a Small Business Advocacy Review Panel (proposed rule stage), and prepare a Small Entity Compliance Guide (final rule stage) unless the Agency certifies a rule will not have a significant economic impact on a substantial number of small entities. For more detailed and current information about the Agency's policy and practice with respect to implementing the RFA/SBREFA, including ongoing Small Business Advocacy Review Panels, please visit the EPA's RFA/SBREFA website at https://www.epa.gov/reg-flex.

IV. Thank You for Collaborating With Us

We would like to thank those of you who choose to join with us in making progress on the complex issues involved in protecting human health and the environment through engaging in our rulemaking process. Collaborative efforts such as the EPA's open rulemaking processes are valuable tools for implementing our legal requirements to address environmental and public health challenges. Our regulatory agenda and your engagement play an important role in that process.

Victoria Arroyo,
Associate Administrator, Office of Policy.

10—Clean Air Act—Prerule Stage
Sequence No. | Title | Regulation Identifier No.
198 | 610 Review of Standards of Performance for New Residential Wood Heaters, New Residential Hydronic Heaters and Forced-Air Furnaces (Section 610 Review) | 2060-AW17

10—Clean Air Act—Final Rule Stage
Sequence No. | Title | Regulation Identifier No.
199 | Revisions to the Air Emission Reporting Requirements (AERR) | 2060-AV41
200 | National Emission Standards for Hazardous Air Pollutants: Lime Manufacturing Plants; Amendments | 2060-AV59

10—Clean Air Act—Completed Actions
Sequence No. | Title | Regulation Identifier No.
201 | National Emission Standards for Hazardous Air Pollutants: Ethylene Oxide Emissions Standards for Sterilization Facilities Residual Risk and Technology Review | 2060-AU37
202 | NSPS for GHG Emissions from New, Modified, and Reconstructed Fossil Fuel-Fired EGUs; Emission Guidelines for GHG Emissions from Existing Fossil Fuel-Fired EGUs; and Repeal of the ACE Rule | 2060-AV09
203 | Standards of Performance for New, Reconstructed, and Modified Sources and Emissions Guidelines for Existing Sources: Oil and Natural Gas Sector Climate Review | 2060-AV16
204 | Section 610 Review of Control of Air Pollution From Motor Vehicles: Tier 3 Motor Vehicle Emission and Fuel Standards (Completion of a Section 610 Review) | 2060-AV90

35—TSCA—Proposed Rule Stage
Sequence No. | Title | Regulation Identifier No.
205 | 1-Bromopropane (1-BP); Regulation Under the Toxic Substances Control Act (TSCA) | 2070-AK73
206 | N-Methylpyrrolidone (NMP); Regulation Under the Toxic Substances Control Act (TSCA) | 2070-AK85
207 | C.I. Pigment Violet 29; Regulation Under the Toxic Substances Control Act (TSCA) | 2070-AK87

35—TSCA—Final Rule Stage
Sequence No. | Title | Regulation Identifier No.
208 | Trichloroethylene (TCE); Regulation Under the Toxic Substances Control Act (TSCA) | 2070-AK83
209 | Perchloroethylene (PCE); Regulation Under the Toxic Substances Control Act (TSCA) | 2070-AK84

35—TSCA—Completed Actions
Sequence No. | Title | Regulation Identifier No.
210 | Methylene Chloride; Regulation Under the Toxic Substances Control Act (TSCA) | 2070-AK70

72—SDWA—Completed Actions
Sequence No. | Title | Regulation Identifier No.
211 | PFAS National Primary Drinking Water Regulation Rulemaking | 2040-AG18

ENVIRONMENTAL PROTECTION AGENCY (EPA)

10—Clean Air Act

Prerule Stage

198. • 610 Review of Standards of Performance for New Residential Wood Heaters, New Residential Hydronic Heaters and Forced-Air Furnaces (Section 610 Review) [2060-AW17]

Legal Authority: 42 U.S.C. 7411

Abstract: On March 16, 2015, EPA published a final rule that made revisions to the New Source Performance Standards (NSPS) for new residential wood heaters (80 FR 13672). The 2015 final rule (40 CFR part 60, subpart AAA and QQQQ) updated the 1988 NSPS to reflect significant advancements in wood heater technologies and design, broadened the range of residential wood-heating appliances covered by the regulation, and improved and streamlined implementation procedures. The 2015 rule requires manufacturers to redesign wood heaters to be cleaner and lower emitting. In general, the design changes also make the heaters perform better and more efficiently. This new entry in the regulatory agenda announces that EPA will review the March 16, 2015 action pursuant to section 610 of the Regulatory Flexibility Act (5 U.S.C. 610) to determine if the provisions that could affect small entities should be maintained or should be rescinded or amended to minimize adverse economic impacts on small entities. As part of this review, EPA will consider and solicit comments on the following: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. Comments must be received within 60 days of this notice. In submitting comments, please reference Docket ID EPA-HQ-OAR-2024-0089 and follow the instructions provided in the preamble to this issue of the Regulatory Agenda. This docket can be accessed at www.regulations.gov.

Timetable:

Action | Date | FR Cite
Final Rule | 03/16/15 | 80 FR 13672
Begin Review | 07/00/24 |
End Review | 11/00/24 |

Regulatory Flexibility Analysis Required: No.

Agency Contact: Bill Schrock, Environmental Protection Agency, Office of Air and Radiation, 109 T.W. Alexander Drive, Mail Code E143-03, Research Triangle Park, NC 27711, Phone: 919 541-5032, Email: schrock.bill@epa.gov.

Nicholas Swanson, Environmental Protection Agency, Office of Air and Radiation, E143-03, Research Triangle Park, NC 27711, Phone: 919 541-4080, Email: swanson.nicholas@epa.gov.

RIN: 2060-AW17

ENVIRONMENTAL PROTECTION AGENCY (EPA)

10—Clean Air Act

Final Rule Stage

199. Revisions to the Air Emission Reporting Requirements (AERR) [2060-AV41]

Legal Authority: 42 U.S.C. 7401 et seq. Clean Air Act

Abstract: This action finalizes changes to the Environmental Protection Agency's (EPA) emissions inventory reporting requirements to collect data needed for the EPA to implement pollution reduction programs and address environmental justice concerns. The amendments in this action would ensure that the EPA has sufficient information to identify and solve air quality and exposure problems. The amendments would also allow the EPA to have information readily available that the Agency needs to protect public health and perform other activities under the Clean Air Act (CAA or “the Act”). Further, the amendments would ensure that communities have the data needed to understand significant sources of air pollution that may be impacting them—including potent carcinogens and other highly toxic chemicals linked with a wide range of chronic and acute health problems.

Timetable:

Action | Date | FR Cite
NPRM | 08/09/23 | 88 FR 54118
Notice | 10/12/23 | 88 FR 63046
Final Rule | 07/00/24 |

Regulatory Flexibility Analysis Required: Yes.

Agency Contact: Marc Houyoux, Environmental Protection Agency, Office of Air and Radiation, C339-02, Research Triangle Park, NC 27711, Phone: 919 541-3649, Fax: 919 541-0684, Email: houyoux.marc@epa.gov.

RIN: 2060-AV41

200. National Emission Standards for Hazardous Air Pollutants: Lime Manufacturing Plants; Amendments [2060-AV59]

Legal Authority: 42 U.S.C. 7401 et seq. Clean Air Act; 42 U.S.C. 7414, 7601

Abstract: This action will amend the Lime Manufacturing National Emission Standards for Hazardous Air Pollutants (NESHAP), 40 CFR part 63, subpart AAAAA, as required by the Clean Air Act (CAA). This action will address Louisiana Environmental Action Network v. EPA, 955 F.3d 1088 (D.C. Cir. 2020) (LEAN”), in which the court held that EPA must set limits on uncontrolled hazardous air pollutant (HAP) emissions when the Agency conducts technology reviews under CAA section 112(d)(6), 42 U.S.C. 7412(d)(6). The Lime Manufacturing NESHAP was promulgated pursuant to section 112(d) of the CAA on January 5, 2004. The residual risk and technology review (RTR) was promulgated pursuant to CAA 112(f) and 112(d)(6) on July 24, 2020. The NESHAP establishes emission limitations based on maximum achievable control technology for control of HAP from kilns at new and existing lime manufacturing plants. The HAP emitted from lime manufacturing kilns include hydrochloric acid, mercury, organic HAP, and dioxins/furans. On July 21, 2023, the U.S. District Court for the District of Columbia extended the deadline for EPA to complete final action on the Lime NESHAP to June 30, 2024. The EPA convened a Small Business Advocacy Review (SBAR) Panel to obtain advice and recommendations from small entity representatives (SERs) that could be subject to the Lime Manufacturing NESHAP requirements. On August 3, 2023, the EPA's Small Business Advocacy Chairperson convened the Panel, which consisted of the Chairperson, the Director of the Sector Policies and Programs Division within the EPA's Office of Air Quality Planning and Standards, the Administrator of the Office of Information and Regulatory Affairs within OMB, and the Chief Counsel for Advocacy of the Small Business Administration (SBA).

Timetable:

Action | Date | FR Cite
NPRM | 01/05/23 | 88 FR 805
Supplemental NPRM | 02/09/24 | 89 FR 9088
Final Rule | 07/00/24 |

Regulatory Flexibility Analysis Required: Yes.

Agency Contact: Brian Storey, Environmental Protection Agency, Office of Air and Radiation, 109 T.W. Alexander Drive, Mail Code D243-04, Research Triangle Park, NC 27711, Phone: 919 541-1103, Fax: 919 541-4991, Email: storey.brian@epa.gov.

Keith Barnett, Environmental Protection Agency, Office of Air and Radiation, D243-04, Research Triangle Park, NC 27711, Phone: 919 541-5605, Fax: 919 541-4991, Email: barnett.keith@epa.gov.

RIN: 2060-AV59

ENVIRONMENTAL PROTECTION AGENCY (EPA)

10—Clean Air Act

Completed Actions

201. National Emission Standards for Hazardous Air Pollutants: Ethylene Oxide Emissions Standards for Sterilization Facilities Residual Risk and Technology Review [2060-AU37]

Legal Authority: 42 U.S.C. 7607(d); 42 U.S.C. 7414, 7601

Abstract: In December 1994, pursuant to section 112(d) of the Clean Air Act, EPA promulgated the National Emission Standards for Hazardous Air Pollutants (NESHAP) for Ethylene Oxide (EtO) Commercial Sterilization and Fumigation Operations (59 FR 62585). The NESHAP established standards for both major and area sources. EPA completed a residual risk and technology review for the NESHAP in 2006 and, at that time, concluded that no revisions to the standards were necessary. In this action, EPA conducted the second RTR for the NESHAP and updated the rule. To aid in this effort, EPA issued an advance notice of proposed rulemaking that solicited comment from stakeholders, undertook a Small Business Advocacy Review panel, which is needed when there is the potential for significant economic impacts to small businesses from any regulatory actions being considered, and has conducted outreach meetings within the communities affected by the highest-risk facilities as part of the development of this action. These meetings involved informing community members of the risk from EtO emissions and explaining how they can be involved in the rule writing process. EPA also held a national webinar on this proposal. Accommodations were made for Spanish-language speaking communities, which are disproportionately affected by these EtO emissions. This final rule also reflects feedback EPA received from representatives of local and state governments. For more information, please visit https://www.epa.gov/stationary-sources-air-pollution/ethylene-oxide-emissions-standards-sterilization-facilities.

Timetable:

Action | Date | FR Cite
ANPRM | 12/12/19 | 84 FR 67889
NPRM | 04/13/23 | 88 FR 22790
Final Rule | 04/05/24 | 89 FR 24090
Final Rule Effective | 04/05/24 |

Regulatory Flexibility Analysis Required: Yes.

Agency Contact: Jon Witt, Environmental Protection Agency, Office of Air and Radiation, 109 T.W. Alexander Drive, Mail Code E143-05, Research Triangle Park, NC 27709, Phone: 919 541-5645, Email: witt.jon@epa.gov.

Kusondra King, Environmental Protection Agency, Office of Air and Radiation, Research Triangle Park, NC 27711, Phone: 919 541-4373, Email: king.kusondra@epa.gov.

RIN: 2060-AU37

202. NSPS for GHG Emissions From New, Modified, and Reconstructed Fossil Fuel-Fired EGUS; Emission Guidelines for GHG Emissions From Existing Fossil Fuel-Fired EGUS; and Repeal of the ACE Rule [2060-AV09]

Legal Authority: 42 U.S.C. 7411 Clean Air Act; 42 U.S.C. 7414, 7601

Abstract: EPA has issued final carbon pollution standards for power plants that set carbon dioxide (CO2) limits for new gas-fired combustion turbines and CO2 emission guidelines for existing coal, oil and gas-fired steam generating units, securing important climate benefits and protecting public health. These rules will significantly reduce greenhouse gas (GHG) emissions from existing coal-fired power plants and from new natural gas turbines, ensuring that all long-term coal-fired plants and base load new gas-fired plants control 90% of their carbon pollution. Existing coal-fired power plants are the largest source of GHGs from the power sector. New natural gas-fired combustion turbines are some of the largest new sources of GHG being built today and these final standards will ensure that they are constructed to minimize their GHG emissions. Consistent with EPA's traditional approach to establishing pollution standards under the Clean Air Act, the final limits and emission guidelines are based on proven pollution control technologies that can be applied directly to power plants and can achieve substantial reductions in carbon pollution at reasonable cost. Emission guidelines for the longest-running existing coal units and performance standards for new base load combustion turbines are based on the use of carbon capture and sequestration/storage (CCS) an available and cost-effective control technology that can be applied directly to power plants. EPA has evaluated the emissions reductions, benefits, and costs of the final carbon pollution standards in a Regulatory Impact Analysis (RIA). The RIA projects reductions of 1.38 billion metric tons of CO2 systemwide through 2047 along with tens of thousands of tons of PM2.5, SO2, and NOX harmful air pollutants that are known to endanger public health.

Timetable:

Action | Date | FR Cite
NPRM | 05/23/23 | 88 FR 33240
Supplemental NPRM | 11/20/23 | 88 FR 80682
Final Rule | 05/09/24 | 89 FR 39798
Final Rule Effective | 07/08/24 |

Regulatory Flexibility Analysis Required: Yes.

Agency Contact: Lisa Thompson, Environmental Protection Agency, Office of Air and Radiation, 109 T.W. Alexander Drive, Mail Code D243-01, Research Triangle Park, NC 27711, Phone: 919 541-9775, Email: thompson.lisa@epa.gov.

Nick Hutson, Environmental Protection Agency, Office of Air and Radiation, 109 T.W. Alexander Drive, Mail Code D243-01, Research Triangle Park, NC 27711, Phone: 919 541-2968, Fax: 919 541-4991, Email: hutson.nick@epa.gov.

RIN: 2060-AV09

203. Standards of Performance for New, Reconstructed, and Modified Sources and Emissions Guidelines for Existing Sources: Oil and Natural Gas Sector Climate Review [2060-AV16]

Legal Authority: 42 U.S.C. 7411

Abstract: On November 15, 2021, the EPA proposed new source performance standards and emission guidelines for crude oil and natural gas facilities. (86 FR 63110). This action was in response to the January 20, 2021, Executive Order titled “Protecting Public Health and the Environment and Restoring Science to Tackle the Climate Crisis.” On December 6, 2022, in a supplemental proposal, EPA proposed to update, strengthen, and expand its November 2021 proposal that would secure major climate and health benefits for all Americans by reducing emissions of methane and other harmful air pollution from both new and existing sources in the oil and natural gas industry (87 FR 74702). On November 30, 2023, the EPA Administrator signed the final rule which includes multiple actions to reduce air pollution emissions from the Crude Oil and Natural Gas source category. First, the EPA finalized new source performance standards regulating greenhouse gases and volatile organic compounds emissions from the Crude Oil and Natural Gas source category pursuant to the Clean Air Act. Second, the EPA finalized emission guidelines under the Clean Air Act for states to follow in developing, submitting, and implementing state plans to establish performance standards to limit greenhouse gas emissions from existing sources (designated facilities) in the Crude Oil and Natural Gas source category. Third, the EPA finalized several related actions stemming from the joint resolution of Congress, adopted on June 30, 2021, under the Congressional Review Act, disapproving the EPA's final rule titled, “Oil and Natural Gas Sector: Emission Standards for New, Reconstructed, and Modified Sources Review,” September 14, 2020. Fourth, the EPA finalized a protocol under the general provisions for optical gas imaging. The final rule was published on March 8, 2024 (89 FR 16820).

Timetable:

Action | Date | FR Cite
NPRM | 11/15/21 | 86 FR 63110
Supplemental NPRM | 12/06/22 | 87 FR 74702
Final Rule | 03/08/24 | 89 FR 16820
Final Rule Effective | 05/07/24 |

Regulatory Flexibility Analysis Required: Yes.

Agency Contact: Amy Hambrick, Environmental Protection Agency, Office of Air and Radiation, 109 T.W. Alexander Drive, Mail Code E143-05, Research Triangle Park, NC 27711, Phone: 919 541-0964, Fax: 919 541-0516, Email: hambrick.amy@epa.gov.

RIN: 2060-AV16

204. Section 610 Review of Control of Air Pollution From Motor Vehicles: Tier 3 Motor Vehicle Emission and Fuel Standards (Completion of a Section 610 Review) [2060-AV90]

Legal Authority: 5 U.S.C. 610

Abstract: The rulemaking “Control of Air Pollution From Motor Vehicles: Tier 3 Motor Vehicle Emission and Fuel Standards” was finalized by EPA in April 2014 (79 FR 23414). The final rule established the Tier 3 Motor Vehicle Emission and Fuel Standards program. The Tier 3 program was part of a comprehensive approach to reducing the impacts of motor vehicles on air quality and public health. The program considered the vehicle and its fuel as an integrated system, setting new vehicle emissions standards and a new gasoline sulfur standard beginning in 2017. The vehicle emissions standards were expected to reduce both tailpipe and evaporative emissions from passenger cars, light-duty trucks, medium-duty passenger vehicles, and some heavy-duty vehicles. The gasoline sulfur standards were expected to enable more stringent vehicle emissions standards and to make emissions control systems more effective. This entry in the regulatory agenda announces that the EPA has reviewed this action pursuant to section 610 of the Regulatory Flexibility Act (5 U.S.C. 610) to determine if the provisions that could affect small entities should be continued without change or should be rescinded or amended to minimize adverse economic impacts on small entities. As part of this review, the EPA solicited comments on the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. No comments were received. The EPA has concluded that the rule does not need to be amended at this time and has addressed the review factors in a report. The report is available in Docket EPA-HQ-OAR-2011-0135, which can be accessed at www.regulations.gov.

Timetable:

Action | Date | FR Cite
Final Rule | 04/28/14 | 79 FR 23414
Begin Review | 07/27/23 | 88 FR 48598
End Review | 05/15/24

Regulatory Flexibility Analysis Required: No.

Agency Contact: Jessica Mroz, Environmental Protection Agency, Office of Air and Radiation, 1200 Pennsylvania Avenue NW, Washington, DC 20460, Phone: 202 564-1094, Email: mroz.jessica@epa.gov.

RIN: 2060-AV90

ENVIRONMENTAL PROTECTION AGENCY (EPA)

35—TSCA

Proposed Rule Stage

205. 1-Bromopropane (1-BP); Regulation Under the Toxic Substances Control Act (TSCA) [2070-AK73]

Legal Authority: 15 U.S.C. 2605 Toxic Substances Control Act

Abstract: This proposed rulemaking will address the unreasonable risk of injury to health presented by 1-bromopropane (1-BP). Section 6(a) of the Toxic Substances Control Act (TSCA) requires EPA address by rule any unreasonable risk identified in a TSCA risk evaluation and apply requirements to the extent necessary so the chemical no longer presents unreasonable risk. The Agency's development of this rule incorporates significant stakeholder outreach and public participation, including over 40 external meetings as well as required Federalism, Tribal, and Environmental Justice consultations and a Small Businesses Advocacy Review Panel. Specifically, EPA engaged in discussions with industry, non-governmental organizations, other government agencies, technical experts and users of 1-BP, and the general public to hear from users, academics, manufacturers, and members of the public health community about practices related to commercial uses of 1-BP. EPA's risk evaluation for 1-BP, describing the conditions of use, is in docket EPA-HQ-OPPT-2019-0235, with the 2022 unreasonable risk determination and additional materials in docket EPA-HQ-OPPT-2016-0741.

Timetable:

Action | Date | FR Cite
NPRM | 07/00/24
Final Rule | 08/00/25

Regulatory Flexibility Analysis Required: Yes.

Agency Contact: Amy Shuman, Environmental Protection Agency, Office of Chemical Safety and Pollution Prevention, 1200 Pennsylvania Avenue NW, Mail Code 7404M, Washington, DC 20460, Phone: 202 564-2978, Email: shuman.amy@epa.gov.

Joel Wolf, Environmental Protection Agency, Office of Chemical Safety and Pollution Prevention, 1200 Pennsylvania Avenue NW, Mail Code 7404M, Washington, DC 20460, Phone: 202 564-0432, Email: wolf.joel@epa.gov.

RIN: 2070-AK73

206. N-Methylpyrrolidone (NMP); Regulation Under the Toxic Substances Control Act (TSCA) [2070-AK85]

Legal Authority: 15 U.S.C. 2605 Toxic Substances Control Act

Abstract: This proposed rulemaking will address the unreasonable risk of injury to health presented by n-methylpyrrolidone (NMP). Section 6(a) of the Toxic Substances Control Act (TSCA) requires EPA to address by rule any unreasonable risk identified in a TSCA section 6(b) risk evaluation by applying requirements to the extent necessary so the chemical no longer presents unreasonable risk. The Agency's development of this rule incorporates significant stakeholder outreach and public participation, including over 40 external meetings as well as required Federalism, Tribal, and Environmental Justice consultations and a Small Businesses Advocacy Review Panel. EPA's 2020 risk evaluation for NMP, describing its conditions of use is in docket EPA-HQ-OPPT-2019-0236, with the 2022 revised unreasonable risk determination and additional materials in docket EPA-HQ-OPPT-2016-0743.

Timetable:

Action | Date | FR Cite
NPRM | 06/14/24 | 89 FR 51134
NPRM Comment Period End | 07/29/24
Final Rule | 05/00/25

Regulatory Flexibility Analysis Required: Yes.

Agency Contact: Clara Hull, Environmental Protection Agency, Office of Chemical Safety and Pollution Prevention, 1200 Pennsylvania Avenue NW, Mail Code 7404M, Washington, DC 20460, Phone: 202 564-3954, Email: hull.clara@epa.gov.

Joel Wolf, Environmental Protection Agency, Office of Chemical Safety and Pollution Prevention, 1200 Pennsylvania Avenue NW, Mail Code 7404M, Washington, DC 20460, Phone: 202 564-0432, Email: wolf.joel@epa.gov.

RIN: 2070-AK85

207. C.I. Pigment Violet 29; Regulation Under the Toxic Substances Control Act (TSCA) [2070-AK87]

Legal Authority: 15 U.S.C. 2605 Toxic Substances Control Act

Abstract: This proposed rulemaking will address unreasonable risks of injury to health identified in the final risk evaluation for C.I. Pigment Violet 29. Section 6 of the Toxic Substances Control Act (TSCA) requires EPA to address unreasonable risks of injury to health or the environment that the Administrator has determined are presented by a chemical substance under the conditions of use. EPA's risk evaluation for C.I. Pigment Violet 29, describing the conditions of use and presenting EPA's determination of unreasonable risk, is in docket EPA-HQ-OPPT-2018-0604, with revised risk determination and additional information in docket EPA-HQ-OPPT-2016-0725.

Timetable:

Action | Date | FR Cite
NPRM | 11/00/24
Final Rule | 11/00/25

Regulatory Flexibility Analysis Required: Yes.

Agency Contact: Carolyn Mottley, Environmental Protection Agency, Office of Chemical Safety and Pollution Prevention, 1200 Pennsylvania Avenue, Mail Code 7404M, Washington, DC 20460, Phone: 202 566-1955, Email: mottley.carolyn@epa.gov.

Ana Corado, Environmental Protection Agency, Office of Chemical Safety and Pollution Prevention, 1200 Pennsylvania Avenue NW, Mail Code 7404M, Washington, DC 20460, Phone: 202 564-0140, Email: corado.ana@epa.gov.

RIN: 2070-AK87

ENVIRONMENTAL PROTECTION AGENCY (EPA)

35—TSCA

Final Rule Stage

208. Trichloroethylene (TCE); Regulation Under the Toxic Substances Control Act (TSCA) [2070-AK83]

Legal Authority: 15 U.S.C. 2605 Toxic Substances Control Act

Abstract: On October 31, 2023, EPA issued a proposed rule to address the unreasonable risk of injury to human health presented by trichloroethylene (TCE) under its conditions of use as documented in EPA's November 2020 Risk Evaluation for TCE and January 2023 revised risk determination for TCE pursuant to the Toxic Substances Control Act (TSCA). TCE is widely used as a solvent in a variety of industrial, commercial and consumer applications including for hydrofluorocarbon (HFC) production, vapor and aerosol degreasing, and in lubricants, greases, adhesives, and sealants. TSCA requires that when EPA determines a chemical substance presents unreasonable risk that EPA address by rule the unreasonable risk of injury to health or the environment and apply requirements to the extent necessary so the chemical no longer presents unreasonable risk. EPA determined that TCE presents an unreasonable risk of injury to health due to the significant adverse health effects associated with exposure to TCE, including non-cancer effects (liver toxicity, kidney toxicity, neurotoxicity, immunotoxicity, reproductive toxicity, and developmental toxicity) as well as cancer (liver, kidney, and non-Hodgkin lymphoma) from chronic inhalation and dermal exposures to TCE. TCE is a neurotoxicant and is carcinogenic to humans by all routes of exposure. The most sensitive adverse effects of TCE exposure are non-cancer effects (developmental toxicity and immunosuppression) for acute exposures and developmental toxicity and autoimmunity for chronic exposures. To address the identified unreasonable risk, EPA is proposing to: prohibit all manufacture (including import), processing, and distribution in commerce of TCE and industrial and commercial use of TCE for all uses, with longer compliance timeframes and workplace controls for certain processing and industrial and commercial uses (including proposed phaseouts and time-limited exemptions); prohibit the disposal of TCE to industrial pre-treatment, industrial treatment, or publicly owned treatment works, with a time-limited exemption for cleanup projects; and establish recordkeeping and downstream notification requirements.

Timetable:

Action | Date | FR Cite
NPRM | 10/31/23 | 88 FR 74712
Final Rule | 09/00/24

Regulatory Flexibility Analysis Required: Yes.

Agency Contact: Gabriela Rossner, Environmental Protection Agency, Office of Chemical Safety and Pollution Prevention, 1200 Pennsylvania Avenue NW, Mail Code 7404M, Washington, DC 20460, Phone: 202 564-2426, Email: rossner.gabriela@epa.gov.

Joel Wolf, Environmental Protection Agency, Office of Chemical Safety and Pollution Prevention, 1200 Pennsylvania Avenue NW, Mail Code 7404M, Washington, DC 20460, Phone: 202 564-0432, Email: wolf.joel@epa.gov.

RIN: 2070-AK83

209. Perchloroethylene (PCE); Regulation Under the Toxic Substances Control Act (TSCA) [2070-AK84]

Legal Authority: 15 U.S.C. 2605 Toxic Substances Control Act

Abstract: On June 16, 2023, EPA proposed a rule under the Toxic Substances Control Act (TSCA) to address the unreasonable risk of injury to human health presented by perchloroethylene (PCE). PCE is a widely used solvent in a variety of occupational and consumer applications including fluorinated compound production, petroleum manufacturing, dry cleaning, and aerosol degreasing. EPA determined that PCE presents an unreasonable risk of injury to health due to the significant adverse health effects associated with exposure to PCE, including neurotoxicity effects from acute and chronic inhalation exposures and dermal exposures, and cancer from chronic inhalation exposures to PCE. TSCA requires that EPA address by rule any unreasonable risk of injury to health or the environment identified in a TSCA risk evaluation and apply requirements to the extent necessary so the chemical no longer presents unreasonable risk. PCE, also known as perc and tetrachloroethylene, is a neurotoxicant and a likely human carcinogen. Neurotoxicity, in particular impaired visual and cognitive function and diminished color discrimination, are the most sensitive adverse effects driving the unreasonable risk of PCE, and other adverse effects associated with exposure include central nervous system depression, kidney and liver effects, immune system toxicity, developmental toxicity, and cancer. To address the identified unreasonable risk, EPA is proposing to prohibit most industrial and commercial uses of PCE; the manufacture (including import), processing, and distribution in commerce of PCE for the prohibited industrial and commercial uses; the manufacture (including import), processing, and distribution in commerce of PCE for all consumer use; and, the manufacture (including import), processing, distribution in commerce, and use of PCE in dry cleaning and related spot cleaning through a 10-year phaseout. For certain conditions of use that would not be subject to a prohibition, EPA is also proposing to require a PCE workplace chemical protection program that includes requirements to meet an inhalation exposure concentration limit and prevent direct dermal contact. EPA is also proposing to require prescriptive workplace controls for laboratory use, and to establish recordkeeping and downstream notification requirements. Additionally, EPA proposes to provide certain time-limited exemptions from requirements for certain critical or essential emergency uses of PCE for which no technically and economically feasible safer alternative is available. The Agency's development of this rule incorporated significant stakeholder outreach and public participation, including public webinars and over 40 external meetings as well as required Federalism, Tribal, and Environmental Justice consultations and a Small Businesses Advocacy Review Panel. EPA's risk evaluation for PCE, describing the conditions of use is in docket EPA-HQ-OPPT-2019-0502, with the 2022 unreasonable risk determination and additional materials in docket EPA-HQ-OPPT-2016-0732.

Timetable:

Action | Date | FR Cite
NPRM | 06/16/23 | 88 FR 39652
Final Rule | 08/00/24

Regulatory Flexibility Analysis Required: Yes.

Agency Contact: Kelly Summers, Environmental Protection Agency, Office of Chemical Safety and Pollution Prevention, 1200 Pennsylvania Avenue NW, Mail Code 7405M, Washington, DC 20460, Phone: 202 564-2201, Email: summers.kelly@epa.gov.

Joel Wolf, Environmental Protection Agency, Office of Chemical Safety and Pollution Prevention, 1200 Pennsylvania Avenue NW, Mail Code 7404M, Washington, DC 20460, Phone: 202 564-0432, Email: wolf.joel@epa.gov.

RIN: 2070-AK84

ENVIRONMENTAL PROTECTION AGENCY (EPA)

35—TSCA

Completed Actions

210. Methylene Chloride; Regulation Under the Toxic Substances Control Act (TSCA) [2070-AK70]

Legal Authority: 15 U.S.C. 2605 Toxic Substances Control Act

Abstract: On May 8, 2024, EPA promulgated a final rule to address the unreasonable risk of injury to health presented by methylene chloride under its conditions of use. TSCA requires that EPA address by rule any unreasonable risk of injury to health or the environment identified in a TSCA risk evaluation and apply requirements to the extent necessary so that the chemical no longer presents unreasonable risk. EPA's final rule will, among other things, prevent serious illness and death associated with uncontrolled exposures to the chemical by preventing consumer access to the chemical, restricting the industrial and commercial use of the chemical while also allowing for a reasonable transition period where an industrial and commercial use of the chemical is being prohibited, provide a time-limited exemption for a critical or essential use of methylene chloride for which no technically and economically feasible safer alternative is available, and protect workers from the unreasonable risk of methylene chloride while on the job.

Timetable:

Action | Date | FR Cite
NPRM | 05/03/23 | 88 FR 28284
Final Rule | 05/08/24 | 89 FR 39254
Final Rule Effective | 07/08/24

Regulatory Flexibility Analysis Required: Yes.

Agency Contact: Ingrid Feustel, Environmental Protection Agency, Office of Chemical Safety and Pollution Prevention, Mail Code 7404M, 1200 Pennsylvania Avenue NW, Washington, DC 20460, Phone: 202 564-3199, Email: feustel.ingrid@epa.gov.

Joel Wolf, Environmental Protection Agency, Office of Chemical Safety and Pollution Prevention, 1200 Pennsylvania Avenue NW, Mail Code 7404M, Washington, DC 20460, Phone: 202 564-0432, Email: wolf.joel@epa.gov.

RIN: 2070-AK70

ENVIRONMENTAL PROTECTION AGENCY (EPA)

72—SDWA

Completed Actions

211. PFAS National Primary Drinking Water Regulation Rulemaking [2040-AG18]

Legal Authority: 42 U.S.C. 300f et seq. Safe Drinking Water Act

Abstract: On March 3, 2021, the Environmental Protection Agency (EPA) published the Fourth Regulatory Determinations in the Federal Register, including a determination to regulate perfluorooctanoic acid (PFOA) and perfluorooctanesulfonic acid (PFOS) in drinking water. Per the Safe Drinking Water Act, following publication of the Regulatory Determination, the Administrator shall propose a maximum contaminant level goal (MCLG) and a national primary drinking water regulation (NPDWR) not later than 24 months after determination and promulgate a NPDWR within 18 months after proposal (the statute authorizes a 9-month extension of this promulgation date). The EPA issued a proposed national primary drinking water regulation for PFOA and PFOS as well as other PFAS on March 29, 2023, as part of this action. Finalization of the NPDWR reflects a key commitment in the EPA's “PFAS Strategic Roadmap: EPA's Commitments to Action 2021-2024.” EPA held a public hearing on the proposed NPDWR on May 4, 2023. The public comment period closed May 30, 2023, and more than 120,000 comments were received. On April 8, 2024, the final PFAS NPDWR was signed by the EPA Administrator and published in the Federal Register on April 26, 2024.

Timetable:

Action | Date | FR Cite
Notice | 02/09/22 | 87 FR 7412
NPRM | 03/29/23 | 88 FR 18638
Final Rule | 04/26/24 | 89 FR 32532
Final Rule Effective | 06/25/24

Regulatory Flexibility Analysis Required: Yes.

Agency Contact: Ryan Albert, Environmental Protection Agency, Office of Water, 4203M, Washington, DC 20460, Phone: 202 564-0763, Email: albert.ryan@epa.gov.

Alexis Lan, Environmental Protection Agency, Office of Water, 1200 Pennsylvania Avenue NW, 4601M, Washington, DC 20460, Phone: 202 564-0841, Email: lan.alexis@epa.gov.

RIN: 2040-AG18

[FR Doc. 2024-16459 Filed 8-15-24; 8:45 am]

BILLING CODE 6560-50-P